DEPARTMENT OF ENERGY

Federal Energy Regulatory Commission

[Docket No. CP17-133-000]

Northwest Pipeline LLC; Notice of Schedule for Environmental Review of the North Fork Nooksack Line Lowering Project

On April 6, 2017, Northwest Pipeline LLC (Northwest) filed an application in Docket No. CP17-133-000 requesting a Certificate of Public Convenience and Necessity pursuant to section 7(c) of the Natural Gas Act to construct and operate certain natural gas pipeline facilities. The proposed project is known as the North Fork Nooksack Line Lowering Project (Project), and would involve replacing and lowering approximately 1,700 feet of 30-inch-diameter pipeline in Whatcom County, Washington.

On April 20, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 13, 2017

90-day Federal Authorization Decision Deadline—February 11, 2018

If a schedule change becomes necessary, additional notice will be provided so that the relevant agencies are kept informed of the Project's progress.

Project Description

Northwest proposes to remove, replace, and lower about 1,700 feet of 30-inch-diameter pipeline in the north floodplain of the North Fork Nooksack River. The project also includes removal of about 1,550 feet of previously abandoned 26-inch-diameter pipeline that would become exposed during the replacement of the 30-inch pipeline. The Project is located in Whatcom County, near Deming, Washington.

Background

On May 9, 2017, the Commission issued a Notice of Intent to Prepare an Environmental Assessment for the Proposed North Fork Nooksack Line Lowering Project and Request for Comments on Environmental Issues (NOI). The NOI was sent to affected landowners; federal, state, and local government agencies; elected officials; environmental and public interest groups; Native American tribes; other interested parties; and local libraries and newspapers. In response to the NOI, the Commission received comments from the U.S. Environmental Protection Agency and the Lummi Indian Business Council. The primary issues raised by the U.S. Environmental Protection Agency are impacts on water quality during pipeline construction; impacts on wetlands, floodplains, and riparian resources; control of invasive and noxious weeds; and impacts on endangered species. The Lummi Business Council identified that it has an active interest in the proposed Project and requested additional time to prepare and submit scoping comments.

The U.S. Army Corps of Engineers has agreed to participate as a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-133), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 19, 2017.
Kimberly D. Bose,
Secretary.

[FR Doc. 2017-15545 Filed 7-24-17; 8:45 am]

BILLING CODE 6717-01-P